DEPARTMENT OF HEALTH AND HUMAN SERVICES

National Institutes of Health

National Cancer Institute; Amended Notice of Meeting

Notice is hereby given of a change in the meeting of the National Cancer Institute Special Emphasis Panel, November 6, 2000, 8 AM to November 6, 2000, 6 PM, National Cancer Institute, 6120 Executive Boulevard, Conference Room J. Rockville, MD, 20852 which was published in the Federal Register on October 19, 2000, 65 FR 62738.

The meeting will be held on November 9, 2000 from 8 AM to 6 PM. The meeting is closed to the public.

Dated: October 25, 2000.
LaVerne Y. Stringfield,
Director, Office of Federal Advisory Committee Policy.

[FR Doc. 00-28107 Filed 11-01-00; 8:45 am]

BILLING CODE 4140-01-M